DEPARTMENT OF ENERGY

Federal Energy Regulatory Commission

[Docket No. RP01-614-000]

Northern Border Pipeline Company; Notice of Proposed Changes in FERC Gas Tariff

October 2, 2001.

Take notice that on September 27, 2001, Northern Border Pipeline Company (Northern Border) tendered for filing to become part of it FERC Gas Tariff, First Revised Volume No. 1, the following tariff sheets to become effective October 29, 2001:

Title Page

Fourth Revised Sheet No. 1

First Revised Sheet No. 4

Fifth Revised Sheet No. 201

Second Revised Sheet No. 213B

Fourth Revised Sheet No. 214

Second Revised Sheet No. 224

Fifth Revised Sheet No. 230

Fifth Revised Sheet No. 248A

Third Revised Sheet No. 248A.01

First Revised Sheet No. 266A

Fifth Revised Sheet No. 285

Third Revised Sheet No. 298A

Fifth Revised Sheet No. 300A

Second Revised Sheet No. 400

Second Revised Sheet No. 405

First Revised Sheet No. 407

Second Revised Sheet No. 419

Fourth Revised Sheet No. 420

Second Revised Sheet No. 425

Original Sheet No. 429C

Second Revised Sheet No. 430

Fifth Revised Sheet No. 431

Second Revised Sheet No. 435

First Revised Sheet No. 441

Third Revised Sheet No. 455

First Revised Sheet No. 462

First Revised Sheet No. 467

Northern Border states that it is filing tariff sheets to incorporate housekeeping and other minor changes to its FERC gas tariff.

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25212 Filed 10-5-01; 8:45 am]

BILLING CODE 6717-01-P